DEPARTMENT OF COMMERCE

National Oceanic and Atmospheric Administration

[RTID 0648-XD254]

Endangered Species; File No. 27490; Extension of Public Comment Period

AGENCY: National Marine Fisheries Service (NMFS), National Oceanic and Atmospheric Administration (NOAA), Commerce.

ACTION: Notice; receipt of application; reopening of public comment period.

SUMMARY: On July 6, 2023, NMFS published a notice of receipt of application for an Endangered Species Act incidental take permit, with comments due by August 7, 2023. In response to two requests to extend the public comment period, NMFS has decided to reopen the public comment period for an additional 15 calendar days. All comments received will become part of the public record and will be available for review.

DATES: The comment period for the notice of receipt of application published on July 6, 2023 (88 FR 43082) is reopened from August 16, 2023 to August 31, 2023. NMFS must receive written comments and information on or before August 31, 2023. Comments previously submitted do not need to be resubmitted.

ADDRESSES: The application is available for download and review at https://www.fisheries.noaa.gov/national/endangered-species-conservation/incidental-take-permits and at https://www.regulations.gov. The application is also available upon request (see FOR FURTHER INFORMATION CONTACT).

You may submit comments, identified by NOAA-NMFS-2023-0090, by:

Electronic Submission: Submit all electronic public comments via the Federal eRulemaking Portal https://www.regulations.gov and enter NOAA-NMFS-2023-0090 in the Search box. Click on the “Comment” icon, complete the required fields, and enter or attach your comments.

Instructions: Comments sent by any other method, to any other address or individual, or received after the end of the comment period, may not be considered by NMFS. All comments received are a part of the public record and will generally be posted for public viewing on https://www.regulations.gov without change. All Personal Identifying Information (e.g., name, address, etc.) voluntarily submitted by the commenter may be publicly accessible. Do not submit Confidential Business Information or otherwise sensitive or protected information. We will accept anonymous comments (enter N/A in the required fields, if you wish to remain anonymous).

FOR FURTHER INFORMATION CONTACT: Alison Verkade, (301) 427-8074, alison.verkade@noaa.gov.

SUPPLEMENTARY INFORMATION:

Background

On July 6, 2023, we published a notice of receipt of application from University of Massachusetts Dartmouth School for Marine Science and Technology (SMAST) for an incidental take permit pursuant to the Endangered Species Act of 1973, as amended (ESA). In that notice we made the incidental take permit application available for public comment. The permit application is for the incidental take of ESA-listed sturgeon and sea turtles associated with the otherwise lawful fisheries survey activities within and adjacent to the Massachusetts/Rhode Island Wind Energy Area.

We received two requests to extend the public comment period by 15 and 30 calendar days in order to provide the public with additional time to gather relevant information and adequately comment on the application in a meaningful and constructive manner. We considered the requests and concluded that a 15-day extension should allow sufficient time for responders to submit comments without significantly delaying the completion of our review. We are therefore reopening the public comment period from August 16, 2023, to August 31, 2023. Comments previously submitted do not need to be resubmitted.

Authority: The authority for this action is the Endangered Species Act of 1973, as amended (16 U.S.C. 1531 et seq.).

Dated: August 10, 2023.
Shannon Bettridge,
Chief, Marine Mammal and Sea Turtle Division, Office of Protected Resources, National Marine Fisheries Service.

[FR Doc. 2023-17523 Filed 8-15-23; 8:45 am]

BILLING CODE 3510-22-P